DEPARTMENT OF COMMERCE

International Trade Administration

[A-831-804]

Certain Aluminum Foil From the Republic of Armenia: Final Affirmative Determination of Sales at Less Than Fair Value

AGENCY: Enforcement and Compliance, International Trade Administration, Department of Commerce.

SUMMARY: The Department of Commerce (Commerce) determines that imports of certain aluminum foil (aluminum foil) from the Republic of Armenia (Armenia) are being, or are likely to be, sold in the United States at less than fair value (LTFV) for the period of investigation, January 1, 2020, through June 30, 2020.

DATES: Applicable September 23, 2021.

FOR FURTHER INFORMATION CONTACT: Margaret Collins or George McMahon, AD/CVD Operations, Office VI, Enforcement and Compliance, International Trade Administration, U.S. Department of Commerce, 1401 Constitution Avenue NW, Washington, DC 20230; telephone: (202) 482-6250 or (202) 482-1167, respectively.

SUPPLEMENTARY INFORMATION:

Background

On May 4, 2021, Commerce published in the Federal Register the preliminary affirmative determination in the LTFV investigation of aluminum foil from Armenia, and the postponement of the final determination until September 16, 2021.¹ We invited interested parties to comment on the Preliminary Determination. A summary of the events that occurred since Commerce published the Preliminary Determination may be found in the Issues and Decision Memorandum.²

¹ See Certain Aluminum Foil from the Republic of Armenia: Preliminary Affirmative Determination of Sales at Less Than Fair Value, Postponement of Final Determination, and Extension of Provisional Measures, 86 FR 23672 (May 4, 2021), (Preliminary Determination), and accompanying Preliminary Decision Memorandum.

² See Memorandum, “Issues and Decision Memorandum for the Final Determination in the Less-Than-Fair-Value Investigation of Certain Aluminum Foil from the Republic of Armenia,” dated concurrently with, and hereby adopted by, this notice (Issues and Decision Memorandum).

Scope of the Investigation

The product covered by this investigation is aluminum foil from Armenia. For a complete description of the scope of this investigation, see Appendix I.

Scope Comments

In accordance with the Preamble to Commerce's regulations,³ the Initiation Notice ⁴ set aside a period of time for parties to raise issues regarding product coverage (i.e., scope).⁵ Certain interested parties commented on the scope of the investigation as it appeared in the Initiation Notice, and we addressed these comments in the Preliminary Scope Decision Memorandum.⁶ Interested parties were provided an opportunity to comment on the Preliminary Scope Decision Memorandum.⁷ We received no scope case briefs requesting changes to the scope of the investigation from interested parties in any of the antidumping or countervailing duty investigations of aluminum foil from Armenia, Brazil, the Sultanate of Oman, the Russian Federation, and the Republic of Turkey. Additionally, we received a letter from the petitioners ⁸ urging Commerce to maintain the same scope language which was set forth in both the Initiation Notice or Preliminary Determination.⁹ Accordingly, Commerce is not modifying the scope language as it appeared in the Initiation Notice or Preliminary Determination, which was unchanged from the Initiation Notice. See Appendix I for the final scope of the investigation.

³ See Antidumping Duties; Countervailing Duties, Final Rule, 62 FR 27296, 27323 (May 19, 1997).

⁴ See Certain Aluminum Foil from the Republic of Armenia, Brazil, the Sultanate of Oman, the Russian Federation, and the Republic of Turkey: Initiation of Less-Than-Fair-Value Investigations, 85 FR 67711 (October 26, 2020) (Initiation Notice).

⁵ Id.

⁶ See Memorandum, “Antidumping and Countervailing Duty Investigations of Certain Aluminum Foil from the Republic of Armenia, Brazil, the Sultanate of Oman, the Russian Federation, and the Republic of Turkey: Preliminary Scope Decision Memorandum,” dated April 27, 2021 (Preliminary Scope Decision Memorandum).

⁷ Id.

⁸ The Aluminum Association Trade Enforcement Working Group and its individual members, Granges America Inc., JW Aluminum Company and Novelis Corporation constitute the petitioners.

⁹ See Petitioners' Letter, “Certain Aluminum Foil from the Republic of Armenia, Brazil, the Sultanate of Oman, the Russian Federation, and the Republic of Turkey—Petitioners' Final Scope Comments,” dated September 8, 2021.

Analysis of Comments Received

All issues raised in the case and rebuttal briefs that were submitted by parties in this investigation are addressed in the Issues and Decision Memorandum. A list of the issues addressed in the Issues and Decision Memorandum is attached to this notice as Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html.

Verification

Commerce was unable to conduct on-site verification of the information relied upon in making its final determination in this investigation. However, we took additional steps in lieu of an on-site verification to verify the information relied upon in making this final determination with respect to Rusal Armenal CJSC (Armenal), in accordance with section 782(i) of the Tariff Act of 1930, as amended (the Act).¹⁰

¹⁰ See Commerce's Letter, dated June 15, 2021; see also Armenal Letter, “Certain Aluminum Foil from Armenia: RUSAL Armenal Response to Questionnaire in Lieu of Verification,” dated June 24, 2021.

Changes Since the Preliminary Determination

Based on our analysis of information provided at Commerce's request by Armenal after the Preliminary Determination,¹¹ the comments received, our findings related to our request for information in lieu of verification, and our correction of ministerial errors timely alleged following the Preliminary Determination,¹² we have made certain changes to the margin calculations for Armenal. For a discussion of these changes, see the Issues and Decision Memorandum.

¹¹ See Armenal Letter, “Certain Aluminum Foil from Armenia: RUSAL Armenal Supplemental Section D Questionnaire Response,” dated May 7, 2021.

¹² See Memorandum, “Certain Aluminum Foil from Armenia: Allegation of a Ministerial Error in the Preliminary Affirmative Determination of Sales in the Less-Than-Fair-Value Investigation,” dated May 28, 2021.

Separate Rate Companies

No party commented on our preliminary separate rate determination with respect to the mandatory respondent.¹³ Thus, there is no basis to reconsider our preliminary determination with respect to separate rate status, and we have continued to grant Armenal a separate rate in this final determination. In light of these changes to the margin calculations and the resulting revised estimated weighted average dumping margin for Armenal, we have also revised the Armenia-wide rate. For a discussion of these changes, see the Issues and Decision Memorandum.

¹³ See Preliminary Determination PDM at 10-15.

Combination Rates

Consistent with the Preliminary Determination and Policy Bulletin 05.1,¹⁴ Commerce calculated combination (producer/exporter) rates for the respondent that is eligible for a separate rate in this investigation.

¹⁴ See Enforcement and Compliance's Policy Bulletin No. 05.1, regarding, “Separate-Rates Practice and Application of Combination Rates in Antidumping Investigations Involving Non-Market Economy Countries,” (April 5, 2005) (Policy Bulletin 05.1), available on Commerce's website at http://enforcement.trade.gov/policy/bull05-1.pdf.

Final Determination

The final estimated weighted-average dumping margins are as follows:

Producer | Exporter | Estimated weighted-average dumping margin (percent)
Rusal Armenal CJSC | Rusal Products GmbH | 29.11
Rusal Armenal CJSC | Rusal Marketing GmbH | 29.11
Armenia-Wide Entity |  | 29.11

Disclosure

We intend to disclose the calculations performed in this final determination within five days of the date of publication of this notice to parties in this proceeding in accordance with 19 CFR 351.224(b).

Continuation of Suspension of Liquidation

In accordance with section 735(c)(1)(B) of the Act, Commerce will instruct U.S. Customs and Border Protection (CBP) to continue to suspend the liquidation of all appropriate entries of subject merchandise, as described in Appendix I of this notice, entered, or withdrawn from warehouse, for consumption on or after May 4, 2021, the date of publication in the Federal Register of the affirmative Preliminary Determination.

Further, pursuant to section 733(d)(1)(B) of the Act and 19 CFR 351.205(d), Commerce will instruct CBP to require a cash deposit equal to the weighted average amount by which NV exceeds U.S. price, as indicated in the chart above, as follows: (1) For the producer/exporter combinations listed in the table above, the cash deposit rate is equal to the estimated weighted-average dumping margin listed for that combination in the table; (2) for all combinations of Armenia producers/exporters of merchandise under consideration that have not established eligibility for their own separate rates, the cash deposit rate will be equal to the estimated weighted-average dumping margin established for the Armenia-wide entity; and (3) for all third-county exporters of merchandise under consideration not listed in the table above, the cash deposit rate is the cash deposit rate applicable to the Armenia producer/exporter combination (or the Armenia-wide entity) that supplied that third-country exporter. These suspension of liquidation instructions will remain in effect until further notice.

International Trade Commission (ITC) Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of aluminum foil no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination is issued and published in accordance with sections 735(d) and 777(i)(1) of the Act and 19 CFR 351.210(c).

Dated: September 16, 2021.
James Maeder,
Deputy Assistant Secretary for Antidumping and Countervailing Duty Operations.

Appendix I—Scope of the Investigation

The merchandise covered by this investigation is aluminum foil having a thickness of 0.2 mm or less, in reels exceeding 25 pounds, regardless of width. Aluminum foil is made from an aluminum alloy that contains more than 92 percent aluminum. Aluminum foil may be made to ASTM specification ASTM B479, but can also be made to other specifications. Regardless of specification, however, all aluminum foil meeting the scope description is included in the scope, including aluminum foil to which lubricant has been applied to one or both sides of the foil.

Excluded from the scope of this investigation is aluminum foil that is backed with paper, paperboard, plastics, or similar backing materials on one side or both sides of the aluminum foil, as well as etched capacitor foil and aluminum foil that is cut to shape. Where the nominal and actual measurements vary, a product is within the scope if application of either the nominal or actual measurement would place it within the scope based on the definitions set forth above. The products under investigation are currently classifiable under Harmonized Tariff Schedule of the United States (HTSUS) subheadings 7607.11.3000, 7607.11.6090, 7607.11.9030, 7607.11.9060, 7607.11.9090, and 7607.19.6000.

Further, merchandise that falls within the scope of this proceeding may also be entered into the United States under HTSUS subheadings 7606.11.3060, 7606.11.6000, 7606.12.3045, 7606.12.3055, 7606.12.3091, 7606.12.3096, 7606.12.6000, 7606.91.3095, 7606.91.6095, 7606.92.3035, and 7606.92.6095. Although the HTSUS subheadings are provided for convenience and customs purposes, the written description of the scope of this investigation is dispositive.

Appendix II—List of Topics Discussed in the Issues and Decision Memorandum

I. Summary

II. Background

III. Armenia-Wide Rate

IV. Affiliation

V. Changes Since the Preliminary Determination

VI. Discussion of the Issues

Comment 1: Surrogate Country Selection

Comment 2: Surrogate Value for Electricity

Comment 3: Conversion Factor for Polyether Packing Tape

Comment 4: Conversion Factor for Sawn Timber

Comment 5: Global Trade Atlas (GTA) Data from South Africa

VII. Recommendation

[FR Doc. 2021-20539 Filed 9-22-21; 8:45 am]

BILLING CODE 3510-DS-P